DEPARTMENT OF HEALTH AND HUMAN SERVICES

Food and Drug Administration

[Docket No. FDA-2019-N-3277]

Revocation of Authorization of Emergency Use of an In Vitro Diagnostic Device for Detection and/or Diagnosis of Zika Virus

AGENCY: Food and Drug Administration, HHS.

ACTION: Notice.

SUMMARY: The Food and Drug Administration (FDA) is announcing the revocation of the Emergency Use Authorization (EUA) (the Authorization) issued to Chembio Diagnostic Systems, Inc. (“Chembio”) for the DPP Zika IgM Assay System. FDA revoked this Authorization on June 3, 2020, under the Federal Food, Drug, and Cosmetic Act (FD&C Act), in consideration of the premarket notification clearance by FDA for the DPP Zika IgM System, DPP Zika IgM System Control Pack, and DPP Micro Reader that was determined to be substantially equivalent to a legally marketed class II predicate device on June 3, 2020. The revocation, which includes an explanation of the reasons for revocation, is reprinted in this document.

DATES: The Authorization is revoked as of June 3, 2020.

ADDRESSES: Submit written requests for single copies of the revocation to the Office of Counterterrorism and Emerging Threats, Food and Drug Administration, 10903 New Hampshire Ave., Bldg. 1, Rm. 4338, Silver Spring, MD 20993-0002. Send one self-addressed adhesive label to assist that office in processing your request or include a Fax number to which the revocation may be sent. See the SUPPLEMENTARY INFORMATION section for electronic access to the revocation.

FOR FURTHER INFORMATION CONTACT: Jennifer J. Ross, Office of Counterterrorism and Emerging Threats, Food and Drug Administration, 10903 New Hampshire Ave., Bldg. 1, Rm. 4332, Silver Spring, MD 20993-0002, 240-402-8155.

SUPPLEMENTARY INFORMATION:

I. Background

Section 564 of the FD&C Act (21 U.S.C. 360bbb-3) allows FDA to strengthen the public health protections against biological, chemical, nuclear, and radiological agents. Among other things, section 564 of the FD&C Act allows FDA to authorize the use of an unapproved medical product or an unapproved use of an approved medical product in certain situations. On September 27, 2017, FDA issued an EUA to Chembio, for the DPP Zika IgM Assay System, subject to the terms of the Authorization. Notice of the issuance of the Authorization was published in the Federal Register on November 17, 2017 (82 FR 54361), as required by section 564(h)(1) of the FD&C Act. In response to requests from Chembio, the EUA was amended on February 6, 2018, and August 3, 2018. Subsequently, on June 3, 2020, Chembio submitted a premarket notification to FDA for the DPP Zika IgM System, DPP Zika IgM System Control Pack, and DPP Micro Reader (K200506), that was determined to be substantially equivalent to a legally marketed Class II predicate device.

II. EUA Criteria for Issuance No Longer Met

Under section 564(g)(2) of the FD&C Act, the Secretary of Health and Human Services may revoke an EUA if, among other things, the criteria for issuance are no longer met. On June 3, 2020, FDA revoked the EUA for Chembio's DPP Zika IgM Assay System because the criteria for issuance were no longer met. Under section 564(c)(3) of the FD&C Act, an EUA may be issued only if FDA concludes there is no adequate, approved, and available alternative to the product for diagnosing, preventing, or treating the disease or condition. FDA has determined that the criteria for issuance of such authorization under section 564(c)(3) of the FD&C Act are no longer met because Chembio's DPP Zika IgM System, DPP Zika IgM System Control Pack, and DPP Micro Reader was determined on June 3, 2020, to be substantially equivalent to a legally marketed class II predicate device with the generic name “Zika virus serological reagents.” As such, FDA concluded that there is an adequate, approved, and available alternative for diagnosing Zika virus infection for purposes of section 564(c)(3) of the FD&C Act and accordingly revoked the Authorization pursuant to section 564(g)(2)(B) of the FD&C Act.

III. Electronic Access

An electronic version of this document and the full text of the revocation are available on the internet at https://www.regulations.gov/.

IV. The Revocation

Having concluded that the criteria for revocation of the Authorization under section 564(g) of the FD&C Act are met, FDA has revoked the EUA for Chembio's DPP Zika IgM Assay System. The revocation in its entirety follows and provides an explanation of the reasons for revocation, as required by section 564(h)(1) of the FD&C Act.

BILLING CODE 4164-01-P

Dated: July 17, 2020.
Lauren K. Roth,
Associate Commissioner for Policy.

[FR Doc. 2020-16014 Filed 7-23-20; 8:45 am]

BILLING CODE 4164-01-C